FEDERAL COMMUNICATIONS COMMISSION

47 CFR Parts 0 and 80

[WT Docket No. 23-357; FCC 23-90; FR ID 183686]

Radiotelephone Requirements for Vessels on the Great Lakes

AGENCY: Federal Communications Commission.

ACTION: Final rule.

SUMMARY: In this document, the Federal Communications Commission (FCC or Commission) amends its rules to retain the radiotelephone requirements for vessels subject to the current Great Lakes Agreement (GLA or Agreement). The GLA is a treaty between the United States and Canada. In relevant part, the GLA established requirements regarding the usage and maintenance of radiocommunications equipment for safety purposes aboard certain vessels navigating on the Great Lakes. Pursuant to Canada's notice of termination on November 2, 2022, the GLA will cease to be effective on November 2, 2023. As a result, the FCC takes expedited action in this order to amend subpart T and certain other parts of the Commission's rules to remove the references to the GLA and maintain the applicability of rules in the Great Lakes.

DATES: Effective November 9, 2023.

FOR FURTHER INFORMATION CONTACT: For additional information on this proceeding, contact Erin McGrath of the Wireless Telecommunications Bureau, Mobility Division, at (202) 418-2042 or erin.mcgrath@fcc.gov.

SUPPLEMENTARY INFORMATION: This is a summary of Commission's Order, in WT Docket No. 23-357; FCC 23-90, adopted on October 30, 2023 and released on October 31, 2023. The full text of this document is available for public inspection online at https://docs.fcc.gov/public/attachments/FCC-23-90A1.pdf. The Commission will send a copy of this Order in a report to be sent to Congress and the Government Accountability Office pursuant to the Congressional Review Act, see 5 U.S.C. 801(a)(1)(A).

Synopsis

1. In this Order, the Commission takes action to ensure the continued safety of vessels navigating the Great Lakes by amending part 0 and part 80 of the Commission's rules to retain the radiotelephone requirements for vessels subject to the current Great Lakes Agreement (GLA or Agreement). The GLA is a treaty between the United States and Canada that, among other things, established requirements regarding the “usage and maintenance of radiocommunications equipment for safety purposes aboard” certain vessels navigating on the Great Lakes. Agreement Between Canada and the United States for the Promotion of Safety on the Great Lakes by Means of Radio, art. II, U.S.-Canada, April 26, 1973, 25 UST 935, T.I.A.S. 7837, amended 30 UST 2523, T.I.A.S. 9352 (GLA). These requirements are codified primarily in subpart T of part 80 of the Commission's rules (subpart T). Because the GLA will cease to be effective on November 2, 2023, pursuant to Canada's notice of termination on November 2, 2022, the Commission must take expedited action to amend subpart T and certain other rules in part 0 and part 80 to remove the references to the GLA and maintain the applicability of rules in the Great Lakes. This will ensure that the Commission's rules continue to promote the safety of life and property on the Great Lakes, provide regulatory stability going forward, and accurately reflect the GLA's status.

2. Further, after careful consideration of information the Commission has recently received from the U.S. Coast Guard (USCG), which also contains information from the Canadian government, the Commission finds it to be necessary and in the public interest to amend one of the subpart T rules requiring an inspection of the required radiotelephone installation at least once every 13 months by extending the time period to once every 48 months. As described in further detail herein, the Commission takes this action to align its rules with the Canadian inspection interval that will apply upon termination of the GLA and to more closely conform to the current needs of the industry given improvements in maritime safety and equipment. The USCG supports this change, noting that the GLA's termination was prompted after the Canadian Government's attempt to renegotiate the terms of the inspection requirement for three years.

I. Background

3. Ensuring the availability of critical maritime communications has been one of the Commission's fundamental obligations since the earliest days of the Communications Act. The Act not only charges the Commission generally with making available wire and radio service for the purpose of promoting safety of life and property, but it also specifically entrusts us with obligations relating to maritime radio communications. Today, similar to the terrestrial emergency 911 system, the maritime services provide for the unique distress, as well as the operational and personal communications, needs of vessels at sea and on inland waterways. While the maritime community has pioneered the use of radio for safety purposes, maritime services also provide a wide range of communications services to vessels to support a multibillion-dollar industry. Along with other applicable rule parts, part 80 of the Commission's rules contains the requirements for stations in the maritime services, and specifically states that the rules are promulgated under the provisions of the Communications Act of 1934, which provides the Commission authority to regulate radio transmissions and to issue licenses for radio stations, and in accordance with various applicable statutes, treaties, and agreements, including the GLA. It also notes that the USCG also has rules that affect radiotelecommunication equipment carriage and power source requirements on certain ships. This extensive history and these requirements reflect the importance of having radio equipment aboard vessels to facilitate communication and promote maritime safety without causing harmful interference to each other or to other spectrum users.

A. The Great Lakes Agreement

4. The GLA was signed on February 26, 1973, entered into force on May 6, 1975, and was amended in 1978 and 1988. The GLA is generally intended to promote the safety of life and property and efficiency of navigation on the Great Lakes and their connecting and tributary waters by coordinating the use of radiocommunications equipment for distress, safety, and navigational purposes. The purposes of the GLA include not only ensuring the operability of radiocommunication and associated equipment during maritime distress and safety and efficiency while navigating on the Great Lakes, but also ensuring that all vessel on the Great Lakes are operating under uniform regulations on radiocommunications to maintain the safety of all ships operating on the Great Lakes. Both the United States and Canada agreed to cooperate to maintain similar rules to the greatest extent possible.

5. The GLA provides that vessels of all countries must comply with its requirements while operating on the Great Lakes if they fall within certain specific categories. The GLA requires, among other things, that all vessels 65 feet or over in length, most towing vessels, and vessels carrying more than six passengers for hire be equipped with a marine VHF radiotelephone installation. In order to further the purposes of the GLA, applicable vessels also need to comply with certain other requirements, such as meeting listening and frequency requirements, having at least one certified radio operator, and retaining certain records on the use of the radiotelephone station for safety purposes, among others.

6. The GLA also requires that radiotelephone stations be inspected at least once every thirteen months either by officers of the United States or Canada or by persons nominated for that purpose or organizations recognized by either the United States or Canada. Following inspection, the inspector must certify that the relevant provisions of the GLA have been complied with, and that certification must be kept on board the vessel and available for inspection.

B. Commission Rules Implementing the Great Lakes Agreement

7. The Commission adopted rules implementing the GLA primarily in subpart T of part 80 and in other scattered sections of part 0 and part 80. The subpart T rules apply to vessels to which the GLA applies that fit into the specific GLA categories—i.e., all vessels 20 meters (65 feet) or over in length, most towing vessels, and vessels carrying more than six passengers for hire—while operating on the Great Lakes, unless they have received an exemption from the Commission. Subpart T not only incorporates the GLA requirements for use of VHF equipment, but also mandates, consistent with the GLA, the frequencies to be used and other technical requirements, including reserve power, operator, maintenance and inspection requirements.

8. Besides the rules in subpart T, the GLA is mentioned in and effectuated by other sections of part 80 and part 0 of the Commission's rules. In part 0, sections 0.131(s)(2) and 0.491 specifically mention the GLA in delegating authority to the Wireless Telecommunications Bureau to grant emergency exemption requests, extensions or waivers of inspection to ships and in providing filing instructions for exemption requests, respectively. Apart from subpart T, the following rules in part 80, in most cases, contain references to the GLA that need to be replaced, but, in some cases, augment subpart T by clarifying technical and other requirements applicable to Great Lakes vessels. These rules are as follows: 80.1(a) (referencing the GLA in a list of documents providing the basis for the Commission's maritime rules), 80.5 (referencing the GLA in the definition of passenger carrying vessel in the categories of ships section and the Great Lakes definition and defining compulsory ships in the categories of ships section), 80.59 (identifying the inspection requirements for the various categories of compulsory vessels and referencing the GLA), 80.161 (referencing the GLA in an operator requirement rule), 80.308 (referencing the GLA in a watch requirement rule), 80.401 (referencing the GLA in a station document requirement rule), 80.409(f) (providing how different categories of vessels must comply with requirements for station log entries and referencing the GLA), 80.411(b) (identifying the certificate posting requirements of various vessels and referencing the GLA), 80.1005 (referencing the GLA in the inspection rule in subpart U, which applies to Bridge-to-Bridge Act vessels), and 80.1065(b) (referencing the GLA in the applicability rule in subpart W, which applies to vessels that must carry the Global Maritime Distress and Safety System).

9. With regard to inspection and certification, section 80.953 describes the requirements that apply to each vessel subject to the GLA. As described in further detail below, each vessel subject to the GLA must have a radiotelephone installation inspection at least once every 13 months.

C. Termination of the Great Lakes Agreement

10. Article XXI of the GLA provides that the Agreement may be terminated unilaterally by either the United States or Canada upon written notice, with termination taking effect twelve months after the date of such notification. As noted above, on November 2, 2022, Canada provided written notice to the United States of the termination of the GLA. Accordingly, the GLA will cease to be effective on November 2, 2023. The Commission and the USCG have been working diligently during this time to arrive at a solution that will maintain safety and regulatory certainty for how maritime radio equipment aboard vessels in the Great Lakes operates to permit communications, including but not limited to during emergencies.

II. Discussion

A. Reinstatement of the Commission's Rules for the Great Lakes

11. The Commission's rules promoting the safety of vessels navigating the Great Lakes generally would not be valid and in effect after the termination of the GLA on November 2, 2023, without today's action to extend these safety measures. The subpart T rules, by their terms, apply only to vessels that are subject to the GLA, not to all vessels that are on voyages in those specific waters. Section 80.951 specifically states that vessels to which the GLA applies must comply with subpart T while navigating on the Great Lakes. Other rules in part 0 and part 80 use similar terminology to establish their applicability to vessels that are subject to the GLA. Furthermore, in adopting many of these rules, the Commission stated that its purpose was to implement the GLA. Accordingly, given that the applicability of the current subpart T rules and certain other rules in part 0 and part 80 is predicated on the continued existence of the GLA, the effective date of termination of the GLA on November 2, 2023, would render those rules a nullity with no practical effect on any vessels, leaving the Commission with no means of carrying forward the enforcement of important Great Lakes-specific radiotelephone installation requirements in the absence of replacement rules. To remedy a situation that could negatively impact safety on the Great Lakes, the Commission finds it necessary and in the public interest to amend the subpart T rules and certain other rules in part 0 and part 80—i.e., to remove the references to the GLA and clarify some rules given the termination of the GLA—to ensure the continued applicability of the substantive requirements governing vessels that are currently subject to the GLA. By continuing the effectiveness of these rules, the Commission will maintain the important public safety requirements that have been in place for decades applicable to certain vessels navigating the Great Lakes.

12. The Commission finds that these rules are necessary and in the public interest, first and foremost, to preserve safety of life and property on the Great Lakes. As noted above, the rules at issue implemented the GLA requirements to install, use, and maintain basic equipment (marine VHF radio) as a means of serving safety, as well as operational and business, purposes for vessel operators. The installation and maintenance of VHF radios are critical to navigation safety on the Great Lakes for purposes including intership navigation, port safety, and operation in vessel traffic areas. Due to limits on coverage from land-based mobile networks over the Great Lakes waters, the USCG operates an extensive network of towers to listen to distress calls and the Rescue 21 network to locate those in danger, and in addition, others, such as commercial ships and bridge tenders rely on VHF marine radio. VHF radios operating in compliance with the GLA rules are essential to Search and Rescue proceedings and other important emergency and non-emergency safety functions including navigation, Vessel Traffic Service (VTS), port operations, port safety, and the dissemination of Urgent Marine Information Broadcasts and weather warnings. For example, vessels entering the Great Lakes traffic areas need radios to check into the VTS centers. VTS, the primary tool used by operators to communicate with mariners in a VTS operating area, provides a wide range of techniques and capabilities aimed at preventing vessel collisions, rammings, and groundings in the harbor, expedites ship movements, increases transportation systems efficiency, and improves operating capability. While it is unlikely that vessel operators would stop carrying and using basic VHF radio equipment immediately upon the effective date of the GLA's termination on November 2, 2023, over time, it is possible that some vessels would stop installing or maintaining VHF radio equipment if it is not required, affecting the efficiency of navigation and making essential communications challenging. The Commission finds that, as a result, safety would be compromised in both emergency and non-emergency situations.

13. Existing rules also provide for inspections of required equipment, maintenance contracts, reserve power, use of licensed operators, or maintenance of a continuous watch on certain frequencies. The USCG demonstrates that, if the pending termination of the GLA is not immediately addressed, mariner's safety will be at risk. While the GLA has been successful in promoting safety on the Great Lakes, USCG data demonstrates that there are a few vessels that are not in compliance. Not only do some of these vessels not have VHF radios or FCC licenses, but some also have faulty equipment or do not have reserve power, the required certifications, or radio logs. These failures were discovered during USCG inspections, demonstrating the general importance of inspection requirements as a vital means of maintaining safety and ensuring compliance with rules. Thus, the amendment of subpart T and certain part 0 and part 80 rules is necessary to maintain these important safety requirements.

14. Further, one of the primary purposes of the GLA—and, thus, of our implementing rules—is to provide uniform radiocommunications regulations for all vessels operating on the Great Lakes, regardless from which nation the vessel originates. Uniformity is important not only for distress situations, but also to ensure maritime safety and efficiency of navigation. Canada has recently adopted rules that are similar to the GLA requirements and, therefore, the equipment carriage requirements will remain the same even after the GLA terminates. Accordingly, with the exception of a modification to the inspection interval explained below, as of November 2, 2023, the substance of the current GLA requirements would continue to apply to vessels in Canadian waters of the Great Lakes, but not to vessels in U.S. waters, if these rules are not amended. Amending the Commission's rules to retain the existing requirements is necessary to ensure the uniformity of rules in the United States and Canada.

15. Maintaining uniformity in regulations between the United States and Canada simplifies the obligations of vessel operators on the Great Lakes and prevents unnecessary confusion, delay, and cost. If the Commission were not to maintain the GLA rules in the same way as implemented under the GLA, vessel operators subject to current GLA requirements could be confused about which rules apply as they voyage on the Great Lakes—the Canadian rules that are based on the GLA, or different, non-GLA rules in the United States that apply to some U.S. vessels in the Great Lakes. For example, a U.S. vessel that is not subject to the GLA rules in U.S. waters and may no longer be in compliance with existing GLA rules, could be detained or subject to penalties for violations of the radio and inspection requirements in Canadian waters where the Canadian GLA rules do apply. Indeed, because there is no “innocent passage” in the Great Lakes, a vessel navigating the Great Lakes passes through both U.S. and Canadian waters multiple times, subjecting that vessel to multiple rule violations. Vessels would need to be cognizant of which set of rules they need to follow and what equipment needs to be on board based on whether they are in the U.S. or Canadian waters of the Great Lakes or if they are going to a port in the other country. By amending the Commission's rules to retain generally the requirements already applicable to these vessels, the Commission promotes clarity, certainty, and ultimately safety while minimizing burdens on operators.

16. Additionally, if the Commission were not to maintain the current Great Lakes rules that are consistent with the GLA and Canada's requirements, commerce and travel could be adversely affected as a result of the lack of certainty to vessels navigating the Great Lakes and going between ports in the United States and Canada. After the effective date of termination of the GLA, unless the Commission maintains the existing GLA rules to match Canada's rules, vessels on the Great Lakes may have the burden and cost of complying with two different and possibly conflicting sets of requirements. Vessels may be refused access to or detained at the foreign port if they are not in compliance with the other country's rules. Not only is detention and delay of vessels a possibility, but also vessels could be subject to monetary fines for violations of rules governing VHF radio installations and inspections, along with other GLA requirements. This scenario could hinder trade if vessels cannot freely travel on the Great Lakes between ports in the United States and Canada in the absence of a certain, uniform set of applicable rules.

B. Update to the Commission's Inspection Requirement for the Great Lakes

17. Although the Commission is amending subpart T and certain part 0 and part 80 rules to retain the existing requirements in their entirety, the Commission hereby amends the inspection requirement in section 80.951 by changing the required inspection interval from at least once every 13 months, to at least once every 48 months. Certifications of inspection that are valid on the effective date of the GLA termination—therefore, dated between October 2, 2022 and November 2, 2023—will be valid for 48 months from the date of inspection, as opposed to 13 months. The Commission takes this action to align its requirement with Canada's inspection interval currently applicable to inland waterways that will be applicable to GLA vessels upon the effective termination of the GLA. This alignment will promote uniformity and more closely conform to the current needs of the industry and the realistic practices of both the United States and Canada in maintaining safety and beneficial commerce for vessels navigating on the Great Lakes.

18. This inspection requirement change is supported by the USCG, which has had extensive conversations with Great Lakes mariners regarding concerns about the 13-month-inspection requirement, and has stated that changing the inspection requirement will not hinder the safety of life and property. As the USCG explains, improvements in maritime safety and equipment have resulted in the GLA's inspection interval requirement becoming antiquated and in need of revision to allow a longer period of time between required inspections. Specifically, although the original 13-month-inspection interval may have been necessary decades ago when the GLA was first executed and vessels used crystal radios requiring more frequent monitoring and adjusting, improvements in VHF radio technology mean that the equipment is reliable for a significantly longer period of time. Thus, the USCG states that changing the inspection interval from 13 months to 48 months will not affect mariner's safety because of the improved reliability and stability of current VHF equipment.

19. The Commission notes that a 48-month inspection interval for Great Lakes vessels that are likely within range of VHF radio communications, and therefore available for quicker safety response according to the USCG, is appropriate in contrast to vessels subject to the Safety Convention (SOLAS) and subpart W of the Commission's rules. These SOLAS and subpart W vessels have an annual inspection requirement, but they travel further offshore, navigate the oceans and typically are outside of VHF range, and travel for longer time periods. In contrast to Great Lakes vessels that solely navigate the Great Lakes and are specifically exempt from SOLAS, SOLAS vessels must carry longer range communications and more complex navigation equipment. Accordingly, SOLAS vessels are subject to a more stringent annual inspection interval, which will continue to apply separate from vessels navigating the Great Lakes.

20. By lengthening the inspection interval for Great Lakes vessels, the Commission intends to lessen the costs and burdens for applicable vessel owners and operators, but without any decrease in safety. Inspections of Great Lakes vessels cost on average $300 per vessel. Accordingly, as an example, if a company operates 20 vessels, it would be required by pay $6,000 (20 × $300) for the 13-month inspection, and $24,000 (4 × $6,000) over the course of 48 months. By changing the inspection interval to once every 48 months, that vessel company would only be required to pay $6,000 over the course of 48 months, saving $18,000 ($24,000−$6,000). This burden reduction will not negatively impact safety because, as noted above, technological advances in radio installations have translated to a reduced need for frequent inspections. The Commission notes that in 1996, when the Commission privatized the inspection of GLA vessels, it stated that, over a five year period, only one percent of the vessels failed the radio inspection. As stated above, USCG data supports that, while some vessels fail inspection, there is a low failure rate of the equipment. Still, the Commission continues to believe that inspections are an integral part of the Commission's rules and necessary to ensure that vessels navigating the Great Lakes have a reliable means of communications to support efficient and safe navigation and to notify others when in distress.

21. The Commission also makes corresponding changes to the requirement that vessels must retain a log entry or issuance of a Great Lakes certificate from two years until the date of the next radio inspection. This rule change conforms the log retention rule with the 48-month inspection requirement.

C. Notice and Comment

22. The Commission finds good cause, pursuant to the Administrative Procedure Act (APA), to conclude that prior notice and comment are unnecessary before adopting these amendments because the amended rules will simply retain existing legal requirements, except for the amendment to the inspection requirement adopted herein. Notice and comment are unnecessary when “the administrative rule is a routine determination, insignificant in nature and impact, and inconsequential to the industry and to the public.” Util. Solid Waste Activities Grp. v. EPA, 236 F.3d 749, 755 (D.C. Cir. 2001) (internal quotation marks omitted); accord Mack Trucks, Inc. v. EPA, 682 F.3d 87, 94 (D.C. Cir. 2012). The “unnecessary” prong is met when the rule amendments do not “substantively alter the existing regulatory framework” or produce any “detrimental impact on the rights of the parties regulated.” Nat'l Helium Corp. v. Fed. Energy Admin., 569 F.2d 1137, 1146 (Temp. Emer. Ct. App. 1977); see also Amendment of Subpart S and T of Part 90 of the Rules to Permit Licensing of Channels in the 896-901/935-904 MHz and 220-222 MHz Bands in the U.S./Mexico Border Area, Order, 7 FCC Rcd 7154, 7154, para. 5 (1992). In this Order, the Commission is maintaining rules that have been in place for decades without change and simply make minor, technical amendments—such as deleting references to the GLA, which will no longer be in effect—to ensure their continued applicability. The same rules will apply to the same vessel owners and operators as they have in the past, and therefore, vessel owners and operators on the Great Lakes will experience no additional burdens and no effect on their substantive rights or obligations. In fact, the burdens would increase on vessel owners if the Commission initiated a notice and comment proceeding that would continue beyond November 2, 2023, because stakeholder confusion could ensue about what rules apply when operating on the Great Lakes, especially in the absence of uniform applicable regulations with Canada during the pendency of such proceeding, as discussed above.

23. Moreover, given the safety concerns, the Commission finds good cause to conclude that prior notice and comment would be contrary to the public interest. The Commission is faced with a potential emergency situation where serious harm could result if the rules ensuring the safety of vessels navigating the Great Lakes were suddenly not applicable and enforceable beginning on November 2, 2023. Good cause has been found to exist in emergency situations in which a rule responds to an immediate threat to safety or physical property. As explained above, these rules were put in place to ensure the safety of life and property on the Great Lakes and to ensure communications when vessels are in distress or facing emergency situations, including with the USCG and their Canadian counterparts. The USCG stresses the importance of maintaining the requirements beyond November 2, 2023, particularly because properly placed and operating VHF radiocommunications not only permits vessels to seek help in emergencies, but also allows authorities and other vessels in the vicinity to facilitate the assistance of nearby vessels in distress. The USCG also notes that there is limited cell phone coverage on the Great Lakes, making VHF radios the only reliable means to make contact if vessel is in distress. The Commission, therefore, finds good cause to forgo notice and comment to ensure, in particular, that these communications and public safety rules designed to address distress situations are effective and continue to be applicable to vessels on the Great Lakes after the effective date of termination of the GLA.

24. Additionally, the Commission had limited time to coordinate a joint regulatory response to Canada's termination of the GLA, making public participation impracticable in this case. Good cause has been found to exist when a rule is necessary, due to circumstances beyond the agency's control, to avoid or ameliorate expected harm to important public interests. On November 2, 2022, Canada unilaterally terminated the GLA in a letter to the U.S. Department of State. Since the date of Canada's termination letter, the Commission has expended considerable time and effort in coordinating with the various interested stakeholders, including the U.S. Department of State, USCG, and Canada, to determine the appropriate regulatory paradigm going forward. These events, including the termination of the treaty, were largely beyond the Commission's control. Once that coordination process was completed, there was insufficient time for public participation in this rulemaking proceeding. Doing so would have significantly delayed the Commission's effort to ensure that there will be rules in place beginning on the effective date of termination of the GLA. Allowing the GLA to terminate without having rules in place would not be in the public interest, as it would endanger public safety, cause commercial harm, and cause confusion for vessel owners and operators as to what regulations applied in the Great Lakes.

25. This Order substantively amends only one existing rule by relaxing the inspection requirement for applicable vessels on the Great Lakes from once every 13 months to once every 48 months, at the request of the USCG. As stated above, Canada terminated the GLA because of concerns about the frequency of a 13-month inspection requirement, which Canada will replace with a 48-month inspection requirement currently applicable to inland waterways. If the Commission does not amend its inspection interval to mirror Canada's interval, then there will be an inconsistency between Canada's requirement and the United States's current 13-month requirement. The Commission, therefore, makes this same change to its rules to maintain uniformity in the inspection interval rules between the United States and Canada, which will benefit international relations between the two countries.

26. If the United States and Canada maintain different inspection requirements, vessel owners and operators could be fined or detained for unwittingly following the wrong rules when unknowingly crossing into U.S. or Canadian waters or when entering the other country's port. Both the USCG and Canadian government have stated that they will fully enforce their rules. Therefore, as the USCG explains, a vessel traveling from Cleveland, Ohio to Duluth, Minnesota will pass between the countries' waters numerous times, potentially resulting in multiple violations for each transit which could lead to excessive fines or being detained. Such enforcement actions by the United States and Canada involving the other country's flagged vessels could harm commerce by raising prices and halting the transport of goods, travel, and foreign relations between the countries. The USCG states that “[i]n the spirit of cooperation with our Canadian counterparts over the shared coverage of the Great Lakes, we implore that our requirements are in sync with Canada.” Letter from Jerry L. Ulcek, Chief, Spectrum Management and Communications Policy Division, USCG, to Scott S. Patrick, Executive Director, Office of Spectrum Management, NTIA, Attach., at 3 (Sept. 29, 2023). Requiring notice and comment for this rule change would result in excessive delay and prevent the maintenance of uniformity and international stability, and the Commission therefore finds additional good cause to conclude that following notice-and-comment procedures would be contrary to the public interest. For these reasons, the Commission also finds that the amendment to the inspection requirement falls under the foreign affairs exception for notice and comment procedures.

D. Effective Date

27. For similar reasons, the Commission finds good cause to make these rules effective immediately upon publication in the Federal Register. While rules issued by the Commission generally must be published at least 30 days before they become effective, the APA and the Commission's rules make an exception for a determination of good cause published with the rule. Given that the imminent lapse of the GLA rules on November 2, 2023, would pose a risk to the safety of life and property on the Great Lakes, it is necessary that the Commission has these rules adopted and effective prior to the GLA's termination date. Further, because the Commission is by and large simply retaining rules that are in existence today, vessels on the Great Lakes should already be equipped with the requisite VHF radios and meet the other communications requirements maintained by today's action, and, therefore, vessel owners and operators do not need time to come into compliance with these rules.

28. The Commission also concludes that the revised inspection requirement should likewise become effective immediately upon publication in the Federal Register. This rule change relieves a burden on industry by permitting vessels to be inspected every 48 months, instead of every 13 months. Because this action relieves a restriction, it is exempt from the requirement that the rule be published for at least 30 days in the Federal Register before becoming effective. Further, this rule change ensures that the U.S. and Canadian rules remain uniform, thereby avoiding a disruption in trade or international disputes regarding what rules apply to various vessels. To maintain uniformity, this rule change needs to be effective as of November 2, 2023. As with the retention of the other Great Lakes rules, the only way to accomplish this is to make this rule effective upon publication in the Federal Register.

III. Procedural Matters

29. Regulatory Flexibility Act. Because this rule change is being adopted without notice and comment, the Regulatory Flexibility Act does not apply.

30. Paperwork Reduction Analysis. This document does not contain any new or substantively modified information collection requirements subject to the Paperwork Reduction Act of 1985 (PRA), Public Law 104-13. In addition, therefore, it does not contain any new or modified information collection burden for small business concerns with fewer than 25 employees, pursuant to the Small Business Paperwork Relief Act of 2002, Public Law 107-198. This document may contain non-substantive modifications to approved information collections. Any such modifications will be submitted to the Office of Management and Budget (OMB) for approval pursuant to OMB's non-substantive modification process.

31. Congressional Review Act. The Commission has determined, and the Administrator of the Office of Information and Regulatory Affairs, Office of Management and Budget, concurs, that this rule is non-major under the Congressional Review Act, 5 U.S.C. 804(2). The Commission will send a copy of this Order to Congress and the Government Accountability Office, pursuant to 5 U.S.C. 801(a)(1)(A).

IV. Ordering Clauses

32. Accordingly, it is ordered that, pursuant to the authority contained in sections 1, 4(i), 301, 303, and 321 of the Communications Act of 1934, as amended, 47 U.S.C. 151, 154(i), 301, 303, and 321, this Order is adopted.

33. It is further ordered that part 0 and part 80 of the Commission's rules are amended as set forth in Appendix A. These amendments shall become effective upon publication of this Order in the Federal Register, pursuant to 5 U.S.C. 553(d)(3) and section 1.427(b) of the Commission's rules, 47 CFR 1.427(b).

34. It is further ordered that the Office of Management and Budget, Performance Program Management, shall send a copy of this Order in a report to be sent to Congress and the Government Accountability Office pursuant to the Congressional Review Act, see 5 U.S.C. 801(a)(1)(A).

List of Subjects

47 CFR Part 0

Authority delegations (Government agencies), Organization and functions (Government agencies).

47 CFR Part 80

Marine safety, Radio, Communications equipment, Great Lakes, Vessels.

Federal Communications Commission.
Marlene Dortch,
Secretary.

Final Rules

For the reasons discussed in the preamble, the Federal Communications Commission amends 47 CFR parts 0 and 80 as follows:

PART 0—COMMISSION ORGANIZATION

1. The authority citation for part 0 continues to read as follows:

Authority: 47 U.S.C. 151, 154(i), 154(j), 155, 225, and 409, unless otherwise noted.

2. Amend § 0.131 by revising paragraph (s)(2) to read as follows:

§ 0.131 Functions of the Bureau.

* * * * *

(s) * * *

(2) Grants emergency exemption requests, extensions or waivers of inspection to ships in accordance with applicable provisions of the Communications Act, the Safety Convention, or the Commission's rules.

3. Revise § 0.491 to read as follows:

§ 0.491 Application for exemption from compulsory ship radio requirements.

Applications for exemption filed under the provisions of sections 352(b) or 383 of the Communications Act; Regulation 4, chapter I of the Safety Convention; Regulation 5, chapter IV of the Safety Convention; or subpart T of Part 80, must be filed as a waiver request using the procedures specified in § 0.482. Emergency requests must be filed via the Universal Licensing System or at the Federal Communications Commission, Office of the Secretary.

PART 80—STATIONS IN THE MARITIME SERVICES

4. The authority citation for part 80 continues to read as follows:

Authority: 47 U.S.C. 151-155, 301-609; 3 U.S.T. 3450, 12 U.S.T. 2377.

5. Amend § 80.1 by revising paragraph (a) to read as follows:

§ 80.1 Basis and purpose.

* * * * *

(a) Basis. The rules for the maritime services in this part are promulgated under the provisions of the Communications Act of 1934, as amended, which vests authority in the Federal Communications Commission to regulate radio transmission and to issue licenses for radio stations. The rules in this part are in accordance with applicable statutes, international treaties, agreements and recommendations to which the United States is a party. The most significant of these documents are listed below with the short title appearing in parenthesis:

(1) Communications Act of 1934, as amended—(Communications Act).

(2) Communications Satellite Act of 1962, as amended—(Communications Satellite Act).

(3) International Telecommunication Union Radio Regulations, in force for the United States—(Radio Regulations).

(4) International Convention for Safety of Life at Sea, 1974, as amended, and the Annex thereto—(Safety Convention).

(5) Vessel Bridge-to-Bridge Radiotelephone Act—(Bridge-to-Bridge Act).

* * * * *

6. Amend § 80.5 by revising paragraphs (3) and (6) of the definition of “Categories of ships” and revising the definition of “Great Lakes” to read as follows:

§ 80.5 Definitions.

* * * * *

Categories of ships. * * *

(3) The term passenger carrying vessel, when used in reference to Part III, Title III of the Communications Act or subpart T of this part, means any ship transporting more than six passengers for hire.

* * * * *

(6) Compulsory ship. Any ship which is required to be equipped with radiotelecommunication equipment in order to comply with the radio or radio-navigation provisions of a treaty, statute, or subpart T of this part to which the vessel is subject.

* * * * *

Great Lakes. This term means all of Lakes Ontario, Erie, Huron (including Georgian Bay), Michigan, Superior, their connecting and tributary waters and the St. Lawrence River as far east as the lower exit of the St. Lambert Lock at Montreal in the Province of Quebec, Canada, but does not include any connecting and tributary waters other than: the St. Marys River, the St. Clair River, Lake St. Clair, the Detroit River and the Welland Canal.

* * * * *

7. Amend § 80.59 by revising paragraphs (a) introductory text, (a)(1) introductory text, (b), and (c)(1) introductory text to read as follows:

§ 80.59 Compulsory ship inspections.

(a) Inspection of ships subject to part II or III of title III of the Communications Act or the Safety Convention.

(1) The FCC will not normally conduct the required inspections of ships subject to the inspection requirements of part II or III of title III of Communications Act or the Safety Convention.

* * * * *

(b) Inspection and certification of a ship subject to subpart T of this part. The FCC will not inspect vessels that are subject to subpart T of this part. An inspection and certification of a ship subject to subpart T of this part must be made by a technician holding one of the following: an FCC General Radiotelephone Operator License, a GMDSS Radio Maintainer's License, a Second Class Radiotelegraph Operator's Certificate, a First Class Radiotelegraph Operator's Certificate, or a Radiotelegraph Operator License. The certification required by § 80.953 must be entered into the ship's log. The technician conducting the inspection and providing the certification must not be the vessel's owner, operator, master, or an employee of any of them. Additionally, the vessel owner, operator, or ship's master must certify that the inspection was satisfactory. There are no FCC prior notice requirements for any inspection under this section.

(c) * * *

(1) Applications for exemption from the radio provisions of part II or III of title III of the Communications Act, the Safety Convention, or subpart T of this part, or for modification or renewal of an exemption previously granted must be filed as a waiver request using FCC Form 605. Waiver requests must include the following information:

* * * * *

8. Revise § 80.161 to read as follows:

§ 80.161 Operator requirements for subpart T vessels on the Great Lakes.

Each ship subject to subpart T of this part must have on board an officer or member of the crew who holds a marine radio operator permit or higher class license.

9. Amend § 80.308 by revising the section heading and paragraph (a) introductory text to read as follows:

§ 80.308 Watch required for subpart T vessels on the Great Lakes.

(a) Each ship of the United States that is equipped with a radiotelephone station for compliance with subpart T of this part must when underway keep a watch on:

* * * * *

10. Revise § 80.401 to read as follows:

§ 80.401 Station documents requirement.

Licensees of radio stations are required to have current station documents as indicated in the following table:

BILLING CODE 6712-01-P

BILLING CODE 6712-01-C

Notes: 1. The expired station license must be retained in the station records until the first Commission inspection after the expiration date.

2. Alternatively, a list of coast stations maintained by the licensee with which communications are likely to be conducted, showing watch-keeping hours, frequencies and charges, is authorized.

3. Required only if station provides a service to ocean-going vessels.

4. Certification of a Great Lakes inspection may be made by either a log entry or issuance of a Great Lakes certificate. The ship's radiotelephone logs containing entries certifying that a Great Lakes safety inspection has been conducted must be retained on board and available for inspection until the next radio inspection.

5. The requirements for having the GMDSS Master Plan, NGA Publication 117, Admiralty List of Radio Signals or IMO Circ. 7 are satisfied by having any one of those four documents.

11. Amend § 80.409 by revising paragraphs (f)(1) introductory text and (f)(2) introductory text and paragraph (f)(2)(v) to read as follows:

§ 80.409 Station logs.

* * * * *

(f) * * *

(1) Radiotelephony stations subject to part II or III of title III of the Communications Act and/or the Safety Convention must record entries indicated by paragraphs (e)(1) through (13) of this section. Additionally, the radiotelephone log must provide an easily identifiable, separate section relating to the required inspection of the ship's radio station. Entries must be made in this section giving at least the following information.

* * * * *

(2) Radiotelephony stations subject to subpart T of this part and the Bridge-to-Bridge Act must record entries indicated by paragraphs (e)(1), (3), (5), (6), (7), (8), (10), (11), and (13) of this section. Additionally, the radiotelephone log must provide an easily identifiable, separate section relating to the required inspection of the ship's radio station. Entries must be made in this section giving at least the following information:

* * * * *

(v) The inspector's signed and dated certification that the vessel meets the requirements for certain vessels operating in the Great Lakes and of the Bridge-to-Bridge Act contained in subparts T and U of this part and has successfully passed the inspection; and

* * * * *

12. Amend § 80.411 by revising paragraph (b) to read as follows:

§ 80.411 Vessel certification or exemption.

* * * * *

(b) Posting. Part II or III of Title III of the Communications Act, Safety Convention, and Great Lakes certificates or exemptions must be posted in a prominent, accessible place in the ship. Ships subject to subpart T of this part may, in lieu of a posted certificate, certify compliance in the station log required by § 80.409(f).

13. Revise subpart T to read as follows:

Subpart T—Radiotelephone Installation Required for Vessels on the Great Lakes
Sec.
80.951 Applicability.
80.953 Inspection and certification.
80.955 Radiotelephone installation.
80.956 Required frequencies and uses.
80.957 Principal operating position.
80.959 Radiotelephone transmitter.
80.961 Radiotelephone receiver.
80.963 Main power supply.
80.965 Reserve power supply.
80.967 Antenna system.
80.969 Illumination of operating controls.

Subpart T—Radiotelephone Installation Required for Vessels on the Great Lakes

§ 80.951 Applicability.

The rules in this subpart apply to vessels of all countries when navigated on the Great Lakes. The Great Lakes are defined as all waters of Lakes Ontario, Erie, Huron (including Georgian Bay), Michigan, Superior, their connecting and tributary waters and the River St. Lawrence as far east as the lower exit of the St. Lambert Lock at Montreal in the Province of Quebec, Canada, but do not include any connecting and tributary waters except the St. Marys River, the St. Clair River, Lake St. Clair, the Detroit River and the Welland Canal. A vessel that falls into a category specified in paragraph (a), (b), or (c) of this section and is not excepted by paragraph (d) or (e) of this section must comply with this subpart while navigated on the Great Lakes.

(a) Every vessel 20 meters (65 feet) or over in length (measured from end to end over the deck, exclusive of sheer).

(b) Every vessel engaged in towing another vessel or floating object, except:

(1) Where the maximum length of the towing vessel, measured from end to end over the deck exclusive of sheer, is less than 8 meters (26 feet) and the length or breadth of the tow, exclusive of the towing line, is less than 20 meters (65 feet);

(2) Where the vessel towed complies with this subpart;

(3) Where the towing vessel and tow are located within a booming ground (an area in which logs are confined); or

(4) Where the tow has been undertaken in an emergency and neither the towing vessel nor the tow can comply with this part

(c) Any vessel carrying more than six passengers for hire.

(d) The requirements of this subpart do not apply to:

(1) Ships of war and troop ships;

(2) Vessels owned and operated by any national government and not engaged in trade.

(e) The Commission may if it considers that the conditions of the voyage or voyages affecting safety (including but not necessarily limited to the regularity, frequency and nature of the voyages, or other circumstances) are such as to render full application of the rules of this subpart unreasonable or unnecessary, exempt partially, conditionally or completely, any individual vessel for one or more voyages or for any period of time not exceeding one year.

§ 80.953 Inspection and certification.

(a) Each U.S. flag vessel subject to this subpart must have an inspection of the required radiotelephone installation at least once every 48 months. This inspection must be made while the vessel is in active service or within not more than one month before the date on which it is placed in service.

(b) An inspection and certification of a ship subject to this subpart must be made by a technician holding one of the following: a General Radiotelephone Operator License, a GMDSS Radio Maintainer's License, a Radiotelegraph Operator License, a Second Class Radiotelegraph Operator's Certificate, or a First Class Radiotelegraph Operator's Certificate. Additionally, the technician must not be the vessel's owner, operator, master, or an employee of any of them. The results of the inspection must be recorded in the ship's radiotelephone log and include:

(1) The date the inspection was conducted;

(2) The date by which the next inspection needs to be completed;

(3) The inspector's printed name, address, class of FCC license (including the serial number);

(4) The results of the inspection, including any repairs made; and

(5) The inspector's signed and dated certification that the vessel meets the requirements contained in this subpart and the Bridge-to-Bridge Act contained in subpart U of this part and has successfully passed the inspection.

(c) The vessel owner, operator, or ship's master must certify that the inspection required by paragraph (b) of this section was satisfactory.

(d) The ship's radiotelephone logs containing entries certifying that a Great Lakes safety inspection has been conducted must be retained on board and available for inspection until the next radio inspection.

§ 80.955 Radiotelephone installation.

(a) Each U.S. flag vessel of less than 38 meters (124 feet) in length while subject to this subpart must have a radiotelephone meeting the provisions of this subpart in addition to the other rules in this part governing ship stations using telephony.

(b) Each U.S. flag vessel of 38 meters (124 feet) or more in length while subject to this subpart must have a minimum of two VHF radiotelephone installations in operating condition meeting the provisions of this subpart. The second VHF installation must be electrically separate from the first VHF installation. However, both may be connected to the main power supply provided one installation can be operated from a separate power supply located as high as practicable on the vessel.

(c) This paragraph does not require or prohibit the use of other frequencies for use by the same “radiotelephone installation” for communication authorized by this part.

§ 80.956 Required frequencies and uses.

(a) Each VHF radiotelephone installation must be capable of transmitting and receiving G3E emission as follows:

(1) Channel 16—156.800 MHz—Distress, Safety and Calling; and

(2) Channel 6—156.300 MHz—Primary intership.

(b) The radiotelephone station must have additional frequencies as follows:

(1) Those ship movement frequencies appropriate to the vessel's area of operation: Channel 11—156.550 MHz, Channel 12—156.600 MHz, or Channel 14—156.700 MHz.

(2) The navigational bridge-to-bridge frequency, 156.650 MHz (channel 13).

(3) Such other frequencies as required for the vessel's service.

(4) One channel for receiving marine navigational warnings for the area of operation.

(c) Every radiotelephone station must include one or more transmitters, one or more receivers, one or more sources of energy and associated antennas and control equipment. The radiotelephone station, exclusive of the antennas and source of energy, must be located as high as practicable on the vessel, preferably on the bridge, and protected from water, temperature, and electrical and mechanical noise.

§ 80.957 Principal operating position.

(a) The principal operating position of the radiotelephone installation must be on the bridge, convenient to the conning position.

(b) When the radiotelephone station is not located on the bridge, operational control of the equipment must be provided at the location of the radiotelephone station and at the bridge operating position. Complete control of the equipment at the bridge operating position must be provided.

§ 80.959 Radiotelephone transmitter.

(a) The transmitter must be capable of transmission of G3E emission on the required frequencies.

(b) The transmitter must deliver a carrier power of between 10 watts and 25 watts into 50 ohms nominal resistance when operated with its rated supply voltage. The transmitter must be capable of readily reducing the carrier power to one watt or less.

(c) To demonstrate the capability of the transmitter, measurements of primary supply voltage and transmitter output power must be made with the equipment operating on the vessel's main power supply, as follows:

(1) The primary supply voltage measured at the power input terminals to the transmitter terminated in a matching artificial load, must be measured at the end of 10 minutes of continuous operation of the transmitter at its rated power output.

(2) The primary supply voltage, measured in accordance with the procedures of this paragraph, must be not less than 11.5 volts.

(3) The transmitter at full output power measured in accordance with the procedure of this paragraph must not be less than 10 watts.

§ 80.961 Radiotelephone receiver.

(a) The receiver must be capable of reception of G3E emission on the required frequencies.

(b) The receiver must have a sensitivity of at least 2 microvolts across 50 ohms for a 20 decibel signal-to-noise ratio.

§ 80.963 Main power supply.

(a) A main power supply must be available at all times while the vessel is subject to the requirements of this subpart.

(b) Means must be provided for charging any batteries used as a source of energy. A device which during charging of the batteries gives a continuous indication of charging current must be provided.

§ 80.965 Reserve power supply.

(a) Each passenger vessel of more than 100 gross tons and each cargo vessel of more than 300 gross tons must be provided with a reserve power supply independent of the vessel's normal electrical system and capable of energizing the radiotelephone installation and illuminating the operating controls at the principal operating position for at least 2 continuous hours under normal operating conditions. When meeting this 2-hour requirement, such reserve power supply must be located on the bridge level or at least one deck above the vessel's main deck.

(b) Instead of the independent power supply specified in paragraph (a) of this section, the vessel may be provided with an auxiliary radiotelephone installation having a power source independent of the vessel's normal electrical system. Any such installation must comply with §§ 80.955, 80.956, 80.957, 80.959, 80.961, 80.969 and 80.971, as well as the general technical standards contained in this part. Additionally, the power supply for any such auxiliary radiotelephone must be a “reserve power supply” for the purposes of paragraphs (c), (d) and (e) of this section.

(c) Means must be provided for adequately charging any batteries used as a reserve power supply for the required radiotelephone installation. A device must be provided which, during charging of the batteries, gives a continuous indication of charging.

(d) The reserve power supply must be available within one minute.

(e) The station licensee, when directed by the Commission, must prove by demonstration as prescribed in paragraphs (e)(1), (2), (3), and (4) of this section that the reserve power supply is capable of meeting the requirements of paragraph (a) of this section as follows:

(1) When the reserve power supply includes a battery, proof of the ability of the battery to operate continuously for the required time must be established by a discharge test over the required time, when supplying power at the voltage required for normal operation to an electric load as prescribed by paragraph (e)(3) of this section.

(2) When the reserve power supply includes an engine driven generator, proof of the adequacy of the engine fuel supply to operate the unit continuously for the required time may be established by using as a basis the fuel consumption during a continuous period of one hour when supplying power, at the voltage required for normal operation, to an electrical load as prescribed by paragraph (e)(3) of this section.

(3) For the purposes of determining the electrical load to be supplied, the following formula must be used:

(i) One-half of the current of the radiotelephone while transmitting at its rated output, plus one-half the current while not transmitting; plus

(ii) Current of the required receiver; plus

(iii) Current of the source of illumination provided for the operating controls prescribed by § 80.969; plus

(iv) The sum of the currents of all other loads to which the reserve power supply may provide power in time of emergency or distress.

(4) At the conclusion of the test specified in paragraphs (e)(1) and (2) of this section, no part of the reserve power supply must have excessive temperature rise, nor must the specific gravity or voltage of any battery be below the 90 percent discharge point.

§ 80.967 Antenna system.

The antenna must be omnidirectional, vertically polarized and located as high as practicable on the masts or superstructure of the vessel.

§ 80.969 Illumination of operating controls.

(a) The radiotelephone must have dial lights which illuminate the operating controls at the principal operating position.

(b) Instead of dial lights, a light from an electric lamp may be provided to illuminate the operating controls of the radiotelephone at the principal operating position. If a reserve power supply is required, arrangements must permit the use of that power supply for illumination within one minute.

§ 80.971 Test of radiotelephone installation.

At least once during each calendar day a vessel subject to this subpart must test communications on 156.800 MHz to demonstrate that the radiotelephone installation is in proper operating condition unless the normal daily use of the equipment demonstrates that this installation is in proper operating condition. If equipment is not in operating condition, the master must have it restored to effective operation as soon as possible.

14. Revise § 80.1005 to read as follows:

§ 80.1005 Inspection of station.

The bridge-to-bridge radiotelephone station will be inspected on vessels subject to regular inspections pursuant to the requirements of Parts II and III of Title III of the Communications Act, the Safety Convention, or subpart T of this part at the time of the regular inspection. If after such inspection, the Commission determines that the Bridge-to-Bridge Act, the rules of the Commission and the station license are met, an endorsement will be made on the appropriate document. The validity of the endorsement will run concurrently with the period of the regular inspection. Each vessel must carry a certificate with a valid endorsement while subject to the Bridge-to-Bridge Act. All other bridge-to-bridge stations will be inspected from time-to-time. An inspection of the bridge-to-bridge station on a vessel subject to subpart T of this part must normally be made at the same time as the inspection required under subpart T of this part and must be conducted by a technician holding one of the following: a General Radiotelephone Operator License, a GMDSS Radio Maintainer's License, a Radiotelegraph Operator License, a Second Class Radiotelegraph Operator's Certificate, or a First Class Radiotelegraph Operator's Certificate. Additionally, the technician must not be the vessel's owner, operator, master, or an employee of any of them. Ships subject to the Bridge-to-Bridge Act may, in lieu of an endorsed certificate, certify compliance in the station log required by section 80.409(f).

15. Amend § 80.1065 by revising paragraph (b) to read as follows:

§ 80.1065 Applicability.

* * * * *

(b) The requirements of this subpart do not modify the requirements for ships navigated on the Great Lakes or small passenger boats. The requirements contained in subpart T of this part continue to apply. The requirements contained in part III of title III of the Communications Act continue to apply (see subpart S of this part).

* * * * *

[FR Doc. 2023-24678 Filed 11-8-23; 8:45 am]

BILLING CODE 6712-01-P